ENVIRONMENTAL PROTECTION AGENCY

40 CFR Part 300

[EPA-HQ-SFUND-1990-0010; FRL 9903-67-Region 9]

National Oil and Hazardous Substances Pollution Contingency Plan; National Priorities List: Partial Deletion of the El Toro Marine Corps Air Station Superfund Site; Correction

AGENCY: Environmental Protection Agency.

ACTION: Final rule; correction.

SUMMARY: The Environmental Protection Agency published in the Federal Register on November 19, 2013, a document concerning the National Oil and Hazardous Substances Pollution Contingency Plan; National Priorities List: Partial Deletion of the El Toro Marine Corps Air Station Superfund Site. Inadvertently, that publication included the incorrect docket number for this Site. This document corrects that error.

DATES: This correction is effective on January 21, 2014.

FOR FURTHER INFORMATION CONTACT: Mary Aycock, U.S. EPA Remedial Project Manager, U.S. Environmental Protection Agency, Region IX; Telephone: (415) 972-3289; Fax: (415) 947-3528; Email: Aycock.Mary@epa.gov.

SUPPLEMENTARY INFORMATION: The EPA published a document in the Federal Register on November 19, 2013 (78 FR 69302) that included the incorrect docket number for the National Oil and Hazardous Substances Pollution Contingency Plan; National Priorities List: Partial Deletion of the El Toro Marine Corps Air Station Superfund Site. This correction corrects the incorrect docket number published on November 19, 2013.

In rule FR Doc. 13-27724 published on November 19, 2013, (78 FR 69302) make the following corrections.

1. On page 69302, in the second column, correct the docket number for the National Oil and Hazardous Substances Pollution Contingency Plan; National Priorities List: Partial Deletion of the El Toro Marine Corps Air Station Superfund Site to read:

[EPA-HQ-SFUND-1990-0010; FRL 9902-79-Region 9]

2. On page 69302, in the third column, correct the first clause of the ADDRESSES caption to read:

ADDRESSES: Submit your comments, identified by Docket ID no. EPA-HQ-SFUND-1990-0010, by one of the following methods:

3. On page 69302, in the third column, correct the first sentence of the “Instructions” caption to read:

Instructions: Direct your comments to Docket ID no. EPA-HQ-SFUND-1990-0010.

Dated: December 19, 2013.
Jared Blumenfeld,
Regional Administrator.

[FR Doc. 2013-31265 Filed 12-31-13; 8:45 am]

BILLING CODE 6560-50-P